DEPARTMENT OF TRANSPORTATION

Federal Aviation Administration

[Summary Notice No. PE-2004-24]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC, on April 2, 2004.
Donald P. Byrne,
Assistant Chief Counsel for Regulations.

Dispositions of Petitions

Docket No.: FAA-2004-16913.

Petitioner: Peninsula Airways d.b.a. PenAir.

Section of 14 CFR Affected: 14 CFR 121.354(b).

Description of Relief Sought/Disposition: To permit Peninsula Airways d.b.a. PenAir, to operate its 4 Cessna 208 Caravans after March 29, 2005, without having an approved terrain awareness and warning system that meets the requirements for Class A equipment in Technical Standard Order C151 installed on each aircraft, subject to certain conditions and limitations.

Grant, 3/23/04, Exemption No. 8279

Docket No.: FAA-2004-17200.

Petitioner: Mr. Keith Dale Cole.

Section of 14 CFR Affected: 14 CFR 91.109(a).

Description of Relief Sought/Disposition: To permit Mr. Keith Dale Cole, to conduct certain flight training in certain Beechcraft Bonanza/Debonair airplanes that are equipped with a functioning throw-over control wheel.

Grant, 3/23/04, Exemption No. 8278

Docket No.: FAA-2001-10949.

Petitioner: FedEx Corporation d.b.a. FedEx Express.

Section of 14 CFR Affected: 14 CFR 121.613 and 121.625.

Description of Relief Sought/Disposition: To permit FedEx Corporation d.b.a. FedEx Express, to dispatch aircraft under instrument flight rules when conditional language in a one-time increment of the weather forecast states that the weather at the destination airport, alternate airport, or both airports could be below the authorized weather minimums when other time increments of the weather forecast state that weather conditions will be at or above the authorized weather minimums.

Grant, 3/24/04, Exemption No. 8282

Docket No.: FAA-2004-17266.

Petitioner: Comair, Inc.

Section of 14 CFR Affected: 14 CFR 121.434(c)(1)(ii).

Description of Relief Sought/Disposition: To permit Comair, Inc., to substitute a qualified and authorized check airman or aircrew program designee for a Federal Aviation Administration inspector to observe a qualifying pilot in command who is completing initial or upgrade training specified in § 121.424 during at least one flight leg that includes a takeoff and a landing.

Grant, 3/24/04, Exemption No. 8281

Docket No.: FAA-2004-17281.

Petitioner: Guidance Helicopters, Inc.

Section of 14 CFR Affected: 14 CFR 135.143(c)(2).

Description of Relief Sought/Disposition: To permit Guidance Helicopters, Inc., to operate certain aircraft under part 135 without a TSO-C112 (Mode S) transponder installed on those aircraft.

Grant, 3/26/04, Exemption No. 8284

Docket No.: FAA-2002-11557.

Petitioner: Bemidji Aviation Services, Inc.

Section of 14 CFR Affected: 14 CFR 135.143(c)(2).

Description of Relief Sought/Disposition: To permit Bemidji Aviation Services, Inc., to operate certain aircraft under part 135 without a TSO-C112 (Mode S) transponder installed on those aircraft.

Grant, 3/26/04, Exemption No. 6110D

Docket No.: FAA-2004-17130.

Petitioner: Northwest Seaplanes, Inc.

Section of 14 CFR Affected: 14 CFR 135.143(c)(2).

Description of Relief Sought/Disposition: To permit Northwest Seaplanes, Inc., to operate certain aircraft under part 135 without a TSO-C112 (Mode S) transponder installed on those aircraft.

Grant, 3/26/04, Exemption No. 8283

Docket No.: FAA-2004-17282.

Petitioner: Executive Air Express, Inc.

Section of 14 CFR Affected: 14 CFR 135.143(c)(2).

Description of Relief Sought/Disposition: To permit Executive Air Express, Inc., to operate certain aircraft under part 135 without a TSO-C112 (Mode S) transponder installed on those aircraft.

Grant, 3/26/04, Exemption No. 8285

[FR Doc. 04-7878 Filed 4-6-04; 8:45 am]

BILLING CODE 4910-13-P